DEPARTMENT OF DEFENSE

Department of the Navy

Notice of Intent To Grant Exclusive Patent License; Neurovel, Inc.

AGENCY: Department of the Navy, DoD.

ACTION: Notice.

SUMMARY: The Department of the Navy hereby gives notice of its intent to grant to Neurovel, Inc., a revocable, nonassignable, exclusive license in the field of nerve stimulation and the recording of such nerve stimulation in humans and animals including, but not limited to, applications such as a retinal prosthesis and a cortical implant in the United States and certain foreign countries, the Government-owned inventions described in U.S. Patent No. 5,264,722: Nanochannel Glass Matrix Used In Making Mesoscopic Structures, Navy Case No. 74,224.//U.S. Patent No. 6,393,327: Microelectronic Stimulator Array, Navy Case No. 82,449.//U.S. Patent No. 6,647,297: Permanent Retinal Implant Device, Navy Case No. 83,839.//U.S. Patent No. 6,970,745: Microelectronic Stimulator Array for Stimulating Nerve Tissue, Navy Case No. 83,682.//U.S. Patent Application Serial No. 10/446,257: Fabrication of Microelectrode Arrays Having High Aspect Ratio Microwires, Navy Case No. 83,713 and any continuations, divisions or re-issues thereof.

DATES: Anyone wishing to object to the grant of this license must file written objections along with supporting evidence, if any, not later than May 24, 2007.

ADDRESSES: Written objections are to be filed with the Naval Research Laboratory, Code 1004, 4555 Overlook Avenue, SW., Washington, DC 20375-5320.

FOR FURTHER INFORMATION CONTACT: Rita Manak, Head, Technology Transfer Office, NRL Code 1004, 4555 Overlook Avenue, SW., Washington, DC 20375-5320, telephone 202-767-3083. Due to U.S. Postal delays, please fax 202-404-7920, e-mail: rita.manak@nrl.navy.mil or use courier delivery to expedite response.

(Authority: 35 U.S.C. 207, 37 CFR part 404.)

Dated: May 3, 2007.
L.R. Almand,
Office of the Navy Judge Advocate General, Administrative Law Division, Federal Register Liaison Officer.

[FR Doc. E7-8897 Filed 5-8-07; 8:45 am]

BILLING CODE 3810-FF-P